DEPARTMENT OF THE INTERIOR

Bureau of Land Management

[NMNM 103820]

Notice of Addition of Lands to Proposed Withdrawal; New Mexico

AGENCY: Bureau of Land Management, Interior.

ACTION: Notice of withdrawal.

SUMMARY: The United States Forest Service has filed a request to add 739.71 acres to their withdrawal application in aid of legislation for the proposed Global Settlement with the Pueblo of San Idelfonso, in Rio Arriba County, New Mexico. The original notice of proposed withdrawal was published in the Federal Register, 67 FR 7193, February 15, 2002, and segregated the lands described therein from location under the United States mining laws, subject to valid existing rights. This notice shall not operate to extend the segregation for the lands described in the original notice. The segregation is necessary to provide protection of these additional lands for relief of legislation during the negotiation of the proposed Global Settlement with the San Idelfonso Pueblo (Pueblo of San Idelfonso v. the United States of America—Docket No. 354 Court of Federal Claims).

DATES: Comments should be received on or before March 30, 2004.

ADDRESSES: Comments should be sent to the Forest Supervisor, Santa Fe National Forest, 1474 Rodeo Road, P.O. Box 1689, Santa Fe, New Mexico 87504-1689.

FOR FURTHER INFORMATION CONTACT: Michael Frazier, Santa Fe National Forest, 505-438-7824.

SUPPLEMENTARY INFORMATION: The Forest Service proposes to add certain lands to its existing withdrawal application. These lands are in addition to those published in the Federal Register, 67 FR 7193, February 15, 2002. The following described public lands are to be withdrawn from location under the United States mining laws, subject to valid existing rights.

Santa Fe National Forest, New Mexico Principal Meridian

T. 20 N., R. 7 E.,

Sec. 17, NE¼NE¼SE¼, NW¼NW¼SE¼, N½N½SW¼, S½SE¼SE¼, W½W½SW¼SW¼, W½E½W½SW¼SW¼, E½E½W½SW¼SW¼, E½SW¼SW¼, SW¼SE¼, and SE¼SW¼;

Sec. 18, S½S½SE¼, N½S½SE¼, N½SE¼, and SW¼;

Sec. 19, a portion of Tract 37 (11.26 acres), lot 5, and N½N½NE¼ (also a portion of Tract 40);

Sec. 20, NW¼NE¼, N½N½NE¼NW¼, N½S½N½NE¼NW¼ (also Tract 41), S½S½N½NE¼NW¼, S½NE¼NW¼, and NW¼NW¼ (also a portion of Tract 40);

Sec. 21, lot 3.

The area described contains 739.71 acres in Rio Arriba County.

For a period of 90 days from the date of publication of this notice, all persons who wish to submit comments, suggestions, or objections in connection with the addition of lands to the proposed withdrawal may present their views in writing to the Forest Supervisor of the Santa Fe National Forest.

Notice is hereby given that a public meeting in connection with the proposed withdrawal will be held at a later date. A notice of time and place will be published in the Federal Register and a newspaper in the general vicinity of the lands to be withdrawn at least 30 days before the scheduled date of the meeting.

From the date of publication of this notice in the Federal Register, the additional described lands will be segregated until February 14, 2004, as specified above unless the application is denied or canceled or the withdrawal is approved prior to that date.

Dated: November 25, 2003.
Carsten F. Goff,
Deputy State Director, Minerals and Lands.

[FR Doc. 03-32236 Filed 12-30-03; 8:45 am]

BILLING CODE 3410-11-P